DEPARTMENT OF COMMERCE

Foreign-Trade Zones Board

[B-47-2015]

Foreign-Trade Zone (FTZ) 46—Cincinnati, Ohio; Notification of Proposed Production Activity, Festo Corporation (Pneumatic/Electric Cylinders and Drives, Valve Manifolds, Electronic Control Systems), Mason, Ohio

Festo Corporation (Festo), an operator of FTZ 46, submitted a notification of proposed production activity to the FTZ Board for its facility located in Mason, Ohio. The notification conforming to the requirements of the regulations of the FTZ Board (15 CFR 400.22) was received on July 22, 2015.

The Festo facility is located within Site 9 of FTZ 46. The facility is used for the production of pneumatic and electronic cylinders and drives, valve manifolds, and electronic control systems used for industrial automation applications. Pursuant to 15 CFR 400.14(b), FTZ authority would be limited to the specific foreign-status components and specific finished products described in the submitted notification (as described below) and subsequently authorized by the FTZ Board.

Production under FTZ procedures could exempt Festo from customs duty payments on the foreign status components used in export production. On its domestic sales, Festo would be able to choose the duty rate during customs entry procedures that applies to pneumatic and electric cylinders and drives, valve manifolds, and electronic control systems (duty rates ranges from free to 2.7%) for the foreign status components noted below. Customs duties also could possibly be deferred or reduced on foreign status production equipment.

The components sourced from abroad include: Light oils/hydrocarbon mixtures; greases; aluminum oxides; petroleum lubricants; adhesives; pastes; epoxies; Loctite; Scotch Weld; Thermaglue; Araldite; simson; heat transfer pastes; polymer adhesives; polyacetals; acrylic and plastic rods/sticks/profiles shapes; plastic pipes/hoses (and with fittings)/tubes/sleeves/couplings/ plugs/adapters/unions/connectors/connection sets; plastic adhesive tape/foil/strip/labels/stickers/films/sheets/covers/boxes/packaging/bins/lids/cases/containers/bags/sacks/caps/covers/ handles/knobs/o-rings/washers/belts/fasteners; polyvinyl chloride plates/sheets/film/foil/strip; rubber rods/tubes/profiles/strips/sheets/plates/pipes/hoses/hose sets/conveyor belts/gaskets/seals/o-rings/stops/rings/discs/plugs; cases; plywood; paperboard cartons/boxes/cases/containers; paper tape/labels/stickers/manuals/printed materials/posters; felt (HTSUS Subheading 5602.21); transmission/conveyor belts; glass containers; stainless steel strips/coils/bars/rods; steel tubes/pipes/profiles/bars/rods/pipe fittings/sleeves/elbows/unions/bends/rings/grommets/gaskets/connectors/couplings/adapters/bushings/nipples/elbows/plugs/ferrules/flanges/bellows/inserts/glands/containers/grills/netting/fencing/stops/caps/dowels/pins/leaf springs/plug seals/ring seals/straps/extensions; steel fasteners (screws, cotters and pins, washers, spacers, rivets, bolts, studs, nuts, inserts); copper nipples/couplings/unions/sleeves/banjos/plugs/adapters/pillars/wires/bushings; copper fasteners (rivets, cotters, cotter pins, nuts, bolts, screws, plug screws); aluminum-aluminum alloy profiles/strips/sheets/plates/tubes/unions/adapters/flanges/banjos/containers for liquefied or compressed gases/couplings/bushings/couplings/spacers/washers/rings/sleeves/supports/gaskets/brackets/mountings/connectors/fittings/branch modules/ring pieces/sub-bases); aluminum fasteners (screws, rivets, pins, nuts; nickel fittings); castors; latches; adjustor knobs; rails; handles; base metal hoses/pipes/tubes/bellows/unions; identification plates; hydraulic engines and motors; pneumatic engines/motors/cylinders/actuators; diaphragm pumps; air compressors; air dryers; membrane dryer service kit; air/water/gas filters and cartridges; filter gaskets; humidifiers; inlet units; vacuum units; solenoid blocks; clean air restrictors; purifying equipment; air manifold assemblies; filling/closing/sealing/labeling/capsuling machines; lubricators; airgun nozzle/oiler bowls; data storage units; printed circuits; handling modules; grippers; valves (pressure-reducing, hydraulic/pneumatic, check, ball, solenoid, regular, ballcocks, angle, inline, gate, hand) and related parts; ball/needle/housed/plain shaft bearings and related cups, bushings, discs, spacers, housings; camshafts; crankshafts; transmission shafts; gears; gear racks; gear boxes; ball screws; pulleys; free wheel units; axles kits; clamping sleeves; coupling housings; drive shafts; motor flanges; pinions; metal gaskets; synchronous electric motors; AC/DC motors and related parts; electrical transformers; power supplies; permanent magnets; electromagnetic couplings/lifting heads/work holders and related parts; clutches; brakes; lithium batteries; voltage regulators; cassettes; software on compacts disks; memory/smart cards; electrical items (resistors, capacitors, motor starters, controllers, circuit breakers, terminals, starters, overload protectors, splices, connectors, switches, fuses, relays, switches, plug sockets, terminal strips/sockets, cat5 couplers, boxes, bridges, grounding sets, manifolds, modules, multipoles); motor controllers; motor controls; interfaces; bus nodes; control blocks; operating units; sensor boxes; PLC boards; printed circuit board assemblies; flat electrical modules and related covers, housings, frames; electric modules (analogue, branch, flat, input, output, extension); mercury vapor lamps; diodes; light emitting diodes; electronic simulators; demonstration kits; ethernet cables; electric cables; connecting lines; insulated wires; wiring harnesses; electrical conductors; fiber optic cables; conduit tubing; insulating fittings; insulating fittings; prisms; mirrors; lenses; liquid crystal devices; lasers; optical appliances/instruments; disc calculators; slide rules; micrometers; calipers; gauges; rulers/tape measures; measuring devices and related parts; demonstration instruments; barometers; thermometers; flow meters; sensors; pressure gauges/transmitters; oscilloscopes/graphs; optical instruments; testing devices; temposonics; pneumatic industrial process control instruments; and, time delay inserts (duty rate ranges from free to 20%). Inputs included in textile category 414 (classified within HTSUS subheading 5602.21) will be admitted to the zone under domestic (duty-paid) status (19 CFR 146.43(a)(2)) or privileged foreign status (19 CFR 146.41), thereby precluding inverted tariff benefits on such items.

Public comment is invited from interested parties. Submissions shall be addressed to the FTZ Board's Executive Secretary at the address below. The closing period for their receipt is September 21, 2015.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Pierre Duy at Pierre.Duy@trade.gov or (202) 482-1378.

Dated: August 4, 2015.
Elizabeth Whiteman,
Acting Executive Secretary.

[FR Doc. 2015-19609 Filed 8-7-15; 8:45 am]

BILLING CODE 3510-DS-P